DEPARTMENT OF ENERGY

Federal Energy Regulatory Commission

[Docket No. CP02-27-000]

Florida Gas Transmission Co.; Notice of Intent To Prepare an Environmental Assessment for the Proposed Phase VI Expansion and Request for Comments on Environmental Issues

January 4, 2002.

The staff of the Federal Energy Regulatory Commission (FERC or Commission) will prepare an environmental assessment (EA) that will discuss the environmental impacts of the Phase VI Expansion involving construction and operation of facilities by Florida Gas Transmission Company (FGT) in the States of Alabama, Florida, Louisiana, and Mississippi.¹ These facilities would consist of about 33.3 miles of various diameter pipeline and 18,600 horsepower (hp) of compression. This EA will be used by the Commission in its decision-making process to determine whether the project is in the public convenience and necessity.

¹ FGT's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice FGT provided to landowners. This fact sheet addresses a number of typically asked questions, including the use of eminent domain and how to participate in the Commission's proceedings. It is available for viewing on the FERC Internet Web site (www.ferc.gov).

Summary of the Proposed Project

FGT proposes to construct approximately 33.3 miles of pipeline, consisting of approximately 25.4 miles of additional mainline and 7.9 miles of various diameter (6-inch to 36-inch-diameter) new lateral and lateral loops, as well as 18,600 horsepower of additional compression at 10 compressor stations. FGT proposes to expand the capacity of its facilities in Alabama, Florida, Louisiana, and Mississippi to transport an additional 121,100 million British thermal units per day of natural gas to four separate parties, Orlando Utilities Commission, Reliant Energy Services, Inc., South Florida Natural Gas, and the City of Leesburg, Florida. FGT's proposed facilities are summarized below.

Looping of Existing Mainline

1. Loop A—approximately 2.3 miles of 36-inch-diameter pipeline in Mobile County, Alabama;

2. Loop B—approximately 3.0 miles of 36-inch-diameter pipeline in Baldwin County, Alabama;

3. Loop C—approximately 3.1 miles of 30-inch-diameter pipeline in Washington County, Florida. Construction of Loop C for the entire 3.1 miles would coincide with the removal of 3.1 miles of FGT's 24-inch-diameter pipe previously abandoned in place;

4. Loop D—approximately 3.0 miles of 30-inch-diameter pipeline in Suwannee County, Florida, and

5. Loop E—approximately 14.0 miles of 30-inch-diameter pipeline in Washington County, Florida.

New Laterals and Lateral Loops

6. Leesburg Lateral Loop—approximately 1.3 miles of 6-inch-diameter pipeline in Lake County, Florida;

7. Cape Kennedy Lateral Loop Extension—approximately 1.4 miles of 16-inch-diameter pipeline in Brevard County, Florida, and

8. Stanton Lateral—approximately 5.2 miles of 16-inch-diameter pipeline in Orange County, Florida.

Compressor Station Additions

9. Station No. 9—Up-rate Unit #905 by 400 hp to 2,800 hp in Washington Parish, Louisiana;

10. Station No. 10—Up-rate Unit #1005 by 200 hp to 2,600 hp in Perry County, Mississippi;

11. Station No. 11—Up-rate Unit #1106 by 300 hp to 2,700 hp in Mobile County, Alabama;

12. Station No. 12A—Add new 2,000 hp unit for a total of 15,000 hp in Santa Rosa County, Florida;

13. Station No. 13—Up-rate Unit #1306 by 300 hp to 2,700 hp in Washington County, Florida;

14. Station No. 14—Up-rate Unit #1406 by 300 hp to 2,700 hp in Gadsden County, Florida;

15. Station No. 15A—Add 2,000 hp by exchanging the 15,000 hp Unit #2401 at Station No. 24 with the 13,000 Hp Unit #1507 at Station No. 15A in Taylor County, Florida;

16. Station No. 18—Add a new reciprocating Unit #1806 of 7,200 hp and up-rate an Unit #1805 by 300 hp to 2,700 hp on the existing 24 and 30-inch-diameter mainlines in Orange County, Florida for a total increase of 7,500 hp;

17. Station No. 24—Add a single 7,200 hp Unit #2402 gas-driven centrifugal unit and exchange the 15,000 hp Unit #2401 at Station #24 for the 13,000 hp Unit #1507 at Station No.15A, resulting in an overall increase of 5,200 hp at Station No. 24 in Gilchrist County, Florida, and

18. Station No. 26—Up-rate Unit #2601 by 400 hp to 7,700 hp on the existing 30-inch West Leg in Citrus County, Florida.

The general location of the project facilities is shown in appendix 1.² If you are interested in obtaining detailed maps of a specific portion of the project, send in your request using the form in appendix 3.

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed facilities would require about 399.3 acres of land. Following construction, about 190.9 acres would be maintained as new aboveground facility sites. The remaining 208.4 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

19. Geology and soils.

20. Land use

21. Water resources, fisheries, and wetlands.

22. Cultural resources.

23. Vegetation and wildlife.

24. Air quality and noise.

25. Endangered and threatened species.

26. Hazardous waste.

27. Public safety.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by FGT. This preliminary list of issues may be changed based on your comments and our analysis.

28. Eight residences are within 50 feet of the construction right-of-way.

29. 31 federally listed endangered or threatened species may occur in the proposed project area.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

30. Send an original and two copies of your letter to: Linwood A. Watson, Jr., Acting Secretary, Federal Energy Regulatory Commission, 888 First St., NE., Room 1A, Washington, DC 20426.

31. Label one copy of the comments for the attention of Gas Branch 2.

32. Reference Docket No. CP02-27-000.

33. Mail your comments so that they will be received in Washington, DC on or before February 8, 2002.

Comments may also be filed electronically via the Internet in lieu of paper. See 18 CFR 385.2001(a)(1)(iii) and the instructions on the Commission's Web site at http://www.ferc.gov under the “e-Filing” link and the link to the User's Guide. Before you can file comments you will need to create a free account which can be created by clicking on “Login to File” and then “New User Account.”

We may mail the EA for comment. If you are interested in receiving it, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's rules of practice and procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC Web site (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet Web site provides access to the texts of formal documents issued by the Commission, such as orders, notices, and rulemakings. From the FERC Internet Web site, click on the “CIPS” link, select “Docket #” from the CIPS menu, and follow the instructions. For assistance with access to CIPS, the CIPS helpline can be reached at (202) 208-2474.

Linwood A. Watson, Jr.,
Acting Secretary.

[FR Doc. 02-570 Filed 1-9-02; 8:45 am]

BILLING CODE 6717-01-P